ENVIRONMENTAL PROTECTION AGENCY

[Petitions IV-2005-3 and -4 and IV-2006-1 and -2; FRL-8276-1]

Clean Air Act Operating Permit Program; Petitions for Objection to State Operating Permit Renewals for Georgia Power Company—Bowen Steam-Electric Generating Plant, Cartersville (Bartow County), GA; Branch Steam-Electric Generating Plant, Milledgeville (Putnam County), GA; Hammond Steam-Electric Generating Plant, Coosa (Floyd County), GA; and Scherer Steam-Electric Generating Plant, Juliette (Monroe County), GA

AGENCY: Environmental Protection Agency (EPA).

ACTION: Notice of final order on petitions to object to state operating permit renewals.

SUMMARY: Pursuant to Clean Air Act Section 505(b)(2) and 40 CFR 70.8(d), the EPA Administrator signed an order, dated January 8, 2007, denying four (4) petitions to object to state operating permit renewals issued by the Georgia Environmental Protection Division (EPD) to Georgia Power Company for the following facilities: Bowen Steam-Electric Generating Plant (Plant Bowen), located in Cartersville, Bartow County, Georgia; Branch Steam-Electric Generating Plant (Plant Branch), located in Milledgeville, Putnam County, Georgia; Hammond Steam-Electric Generating Plant (Plant Hammond), located in Coosa, Floyd County, Georgia; and Scherer Steam-Electric Generating Plant (Plant Scherer), located in Juliette, Monroe County, Georgia. This order constitutes final action on the four (4) petitions submitted by Georgia Center for Law in the Public Interest (GCLPI or the Petitioner), on behalf of the Sierra Club, Georgia Public Interest Research Group, and Coosa River Basin Initiative. Pursuant to section 505(b)(2) of the Clean Air Act (the Act), any person may seek judicial review of the Order in the United States Court of Appeals for the appropriate circuit within 60 days of this notice under section 307 of the Act.

ADDRESSES: Copies of the final Order, the petitions, and all pertinent information relating thereto are on file at the following location: EPA Region 4, Air, Pesticides and Toxics Management Division, 61 Forsyth Street, SW., Atlanta, Georgia 30303-8960. The final Order is also available electronically at the following address: http://www.epa.gov/region07/programs/artd/air/title5/petitiondb/petitions/georgiapower renewals_decision2005&2006.pdf.

FOR FURTHER INFORMATION CONTACT: Art Hofmeister, Air Permits Section, EPA Region 4, at (404) 562-9115 or hofmeister.art@epa.gov.

SUPPLEMENTARY INFORMATION: The Act affords EPA a 45-day period to review and, as appropriate, to object to operating permits proposed by state permitting authorities under title V of the Act, 42 U.S.C. 7661-7661f. Section 505(b)(2) of the Act and 40 CFR 70.8(d) authorize any person to petition the EPA Administrator to object to a title V operating permit within 60 days after the expiration of EPA's 45-day review period if EPA has not objected on its own initiative. Petitions must be based only on objections to the permit that were raised with reasonable specificity during the public comment period provided by the State, unless the petitioner demonstrates that it was impracticable to raise these issues during the comment period or the grounds for the issues arose after this period.

EPA received two (2) petitions each on December 22, 2005 (for Plants Bowen and Branch), and January 3, 2006 (for Plants Hammond and Scherer), requesting that EPA object to state title V operating permit renewals issued by EPD to Georgia Power for the aforementioned sources. The Petitioner maintains that the Georgia Power permit renewals are not in compliance with the Act because: (1) They failed to require compliance schedules to bring the sources into compliance with applicable opacity standards and (2) they were not accompanied by adequate statements of basis. Furthermore, related to Plants Bowen and Scherer, the Petitioner alleges that the permit renewals are not in compliance with the Act because they failed to require compliance schedules to bring the sources into compliance regarding prevention of significant deterioration requirements.

On January 8, 2007, the Administrator issued an order denying the four (4) petitions. The Order explains the reasons behind EPA's decision to deny the petitions for objection on all grounds.

Dated: January 30, 2007.
J. I. Palmer, Jr.,
Regional Administrator, Region 4.

[FR Doc. E7-2131 Filed 2-7-07; 8:45 am]

BILLING CODE 6560-50-P